FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Advantex Express Inc. (OFF), 4402 Theiss Road, Humble, TX 77338, Officers: Gary C. Cockrell, Assistant Vice President for Regulatory Affairs (QI), Greg Richard, President, Application Type: New OFF License.

Amerifreight (N.A.), Inc. dba Freight Team (NVO & OFF), 218 Machlin Court, Walnut, CA 91789, Officer: Lionel Bao, President (QI), Application Type: Add Trade Name iGlobal US.

Blue Cargo Group, LLC (NVO & OFF), 177-15 149th Road, 2nd Floor, Jamaica, NY 11434, Officers: Khalid Aziz, Manager (QI), Steven Perlman, Manager, Application Type: Add Trade Name Blu Logistics.

Brutos International Corp. (NVO & OFF), 428 S. Atlantic Blvd., Suite 203, Monterey Park, CA 91754, Officers: Janet Li, Secretary (QI), Jesse Wu, CEO/CFO, Application Type: New NVO & OFF License.

Durard Timothy Gruelle dba D.T. Gruelle Company (NVO & OFF), 301 Moon Clinton Road, Coraopolis, PA 15108, Officers: Durard T. Gruelle, President (QI), Matteo A. Gruelle, Manager (QI), Application Type: License Transfer to D.T. Gruelle Company Group, LLC & QI Change.

Em-Lines Limited (NVO), 21/F Gloucester Tower, The Landmark Queen's Road, Central Hong Kong, China, Officers: Robin B. Finke, President (QI), Olen D. Woods, Director, Application Type: New NVO License.

Global Logistics New Jersey, LLC (NVO & OFF), 275 Veterans Blvd., Rutherford, NJ 07070, Officers: Ohmoon Kwon, Manager (QI), Jihyuk Lim, Treasurer, Application Type: Add Trade Name Hyundai Glovis New Jersey, LLC.

Harris International Freight Forwarders, Inc. (OFF), 2033 Second Avenue, Suite 1510, Seattle, WA 98121, Officers: Irmgard H. Harris, Secretary (QI), Michael W. Harris, President (QI), Application Type: QI Change.

Jawed Salim dba Continents Shipping & Trading (OFF), 18062 FM 529 Road, Suite 172, Cypress, TX 77433, Officer: Jawed Salim, Sole Proprietor (QI), Application Type: New OFF License.

JT Freight Solutions (NVO & OFF), 438 Lafayette Street, San Gabriel, CA 91776, Officer: Jeremy Tran, President (QI), Application Type: New NVO & OFF License.

OceanLink Shipping Logistics (NVO & OFF), 3070 East Frontere Street, Suite 210, Anaheim, CA 92806, Officers: Nevine G. Shehata, CEO (QI), Amer Eid, CFO, Application Type: New NVO & OFF License.

Veco Logistics Miami, Inc. (NVO & OFF), 7270 NW 35 Ter, Suite 101, Miami, FL 33122, Officers: Patricia E. Puga, Vice President (QI), Zoraida E. Sorrano, President, Application Type: QI Change & Add OFF Service.

World Link Logistics Inc. (NVO & OFF), 17022 De Groot Place, Cerritos, CA 90703, Officer: Syed M. Ali, President (QI), Application Type: New NVO & OFF License.

By the Commission.
Dated: January 18, 2013.
Rachel E. Dickon,
Assistant Secretary.

[FR Doc. 2013-01521 Filed 1-24-13; 8:45 am]

BILLING CODE 6730-01-P